DEPARTMENT OF EDUCATION

National Advisory Committee on Institutional Quality and Integrity, (National Advisory Committee); Notice of Meeting Changes

AGENCY: National Advisory Committee on Institutional Quality and Integrity, Department of Education.

SUMMARY: This notice advises interested parties of changes concerning the December 2006 meeting of the National Advisory Committee and amends information provided in the original meeting notice published in the July 26, 2006 Federal Register (71 FR 42366).

FOR FURTHER INFORMATION CONTACT: Ms. Francesca Paris-Albertson, the Executive Director of the National Advisory Committee on Institutional Quality and Integrity, U.S. Department of Education, room 7110, MS 7592, 1990 K St., NW., Washington, DC 20006, telephone: (202) 219-7009, fax: (202) 219-7008, e-mail: Francesca.Paris-Albertson@ed.gov.

Individuals who use a telecommunications device for the deaf (TDD) may call the Federal Information Relay Service at 1-800-877-8339 between 8 a.m. and 8 p.m. Eastern time, Monday through Friday.

SUPPLEMENTARY INFORMATION: The changes to the agenda for the December 2006 meeting of the National Advisory Committee, to be held at the Madison, 1177 Fifteenth Street, NW., Washington, DC 20005:

(1) There will be a two-hour discussion among the NACIQI members regarding the report from the Secretary's Commission on the Future of Higher Education. The discussion is scheduled for Monday, December 4, 2006 from 8:30 a.m.-10:30 a.m.

(2) Western Association of Schools and Colleges, Accrediting Commission for Schools, which was originally scheduled for review during the National Advisory Committee's December 2006 meeting, withdrew their request for an expansion of scope. Their request for an expansion of scope included the accreditation and preaccreditation of not-for-profit postsecondary non-degree-granting institutions in Alaska, Idaho, Montana, Nevada, Oregon, Utah, and Washington.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Authority: 5 U.S.C. Appendix 2.

James F. Manning,
Acting Assistant Secretary for Postsecondary Education.

[FR Doc. E6-18652 Filed 11-9-06; 8:45 am]

BILLING CODE 4000-01-P